DEPARTMENT OF COMMERCE

National Oceanic and Atmospheric Administration

[RTID 0648-XE392]

South Atlantic Fishery Management Council; Public Meetings

AGENCY: National Marine Fisheries Service (NMFS), National Oceanic and Atmospheric Administration (NOAA), Commerce.

ACTION: Notice of a public meeting.

SUMMARY: The South Atlantic Fishery Management Council (SAFMC; Council) will hold a meeting of the Snapper Grouper Commercial Sub-Committee.

DATES: The Snapper Grouper Commercial Sub-Committee meeting will be held via webinar on November 5, 2024. The meeting will be held from 9 a.m. until 12:30 p.m. EST.

ADDRESSES:

Meeting address: The meeting will be held via webinar. The webinar is open to members of the public. Registration is required. Webinar registration, an online public comment form, and briefing book materials will be available two weeks prior to the meeting at: https://safmc.net/workgroups/.

Council address: South Atlantic Fishery Management Council, 4055 Faber Place Drive, Suite 201, N Charleston, SC 29405.

FOR FURTHER INFORMATION CONTACT: Michael Schmidtke, Fishery Scientist, SAFMC; phone: (843) 571-4366 or toll free: (866) SAFMC-10; fax: (843) 769-4520; email: mike.schmidtke@safmc.net.

SUPPLEMENTARY INFORMATION: The Snapper Grouper Commercial Sub-Committee will discuss current issues in the commercial sector of the snapper grouper fishery, as well as potential timelines and prioritizations for actions addressing these issues. The Sub-Committee will develop recommendations for the Council about future commercial management actions.

Special Accommodations

The meeting is physically accessible to people with disabilities. Requests for auxiliary aid should be directed to the Council office (see ADDRESSES) 5 days prior to the meeting.

Note: The times and sequence specified in this agenda are subject to change.

Authority: 16 U.S.C. 1801 et seq.

Dated: October 16, 2024.
Alyssa Weigers,
Acting Deputy Director, Office of Sustainable Fisheries, National Marine Fisheries Service.

[FR Doc. 2024-24247 Filed 10-18-24; 8:45 am]

BILLING CODE 3510-22-P